DEPARTMENT OF AGRICULTURE

Animal and Plant Health Inspection Service

[Docket No. APHIS-2012-0044]

National Poultry Improvement Plan; General Conference Committee Meeting and 41st Biennial Conference

AGENCY: Animal and Plant Health Inspection Service, USDA.

ACTION: Notice of meeting.

SUMMARY: We are giving notice of a meeting of the General Conference Committee of the National Poultry Improvement Plan (NPIP) and the NPIP's 41st Biennial Conference.

DATES: The General Conference Committee meeting will be held on September 25, 2012, from 12 p.m. to 4 p.m. The Biennial Conference will meet on September 26, 2012, from 8 a.m. to 5 p.m., and on September 27, 2012, from 8 a.m. to 12 p.m.

ADDRESSES: The meeting will be held at the Loews New Orleans Hotel, 300 Poydras Street, New Orleans, LA.

FOR FURTHER INFORMATION CONTACT: Dr. C. Stephen Roney, Senior Coordinator, National Poultry Improvement Plan, VS, APHIS, 1506 Klondike Road, Suite 300, Conyers, GA 30094-5173, (770) 922-3496.

SUPPLEMENTARY INFORMATION: The General Conference Committee (the Committee) of the National Poultry Improvement Plan (NPIP), representing cooperating State agencies and poultry industry members, serves an essential function by acting as a liaison between the poultry

industry and the Department in matters pertaining to poultry health. The Committee meets to discuss significant poultry health issues and makes recommendations to improve the NPIP program.

Topics for discussion at the upcoming meetings include:

1. Salmonella testing.

2. Technical Committee report.

3. Avian influenza.

4. USDA regulatory review.

The meetings will be open to the public. However, due to time constraints, the public will not be allowed to provide oral comments pertaining to the discussions during either of the meetings. Written statements on meeting topics may be filed with the Committee before or after the meeting by sending them to the person listed under FOR FURTHER INFORMATION CONTACT. Written statements may also be filed at the meeting. Please refer to Docket No. APHIS-2012-0044 when submitting your statements.

If you require special accommodations, such as a sign language interpreter, please call or write the individual listed under FOR FURTHER INFORMATION CONTACT.

This notice of meeting is given pursuant to section 10 of the Federal Advisory Committee Act (5 U.S.C. App. 2).

Done in Washington, DC, this 30th day of July 2012.
Kevin Shea,
Acting Administrator, Animal and Plant Health Inspection Service.

[FR Doc. 2012-19025 Filed 8-2-12; 8:45 am]

BILLING CODE 3410-34-P